DEPARTMENT OF ENERGY

Federal Energy Regulatory Commission

[Docket No. CP15-88-000]

Tennessee Gas Pipeline Company, L.L.C.; Notice of Revised Schedule for Environmental Review of the Abandonment and Capacity Restoration Project

This notice identifies the Federal Energy Regulatory Commission (Commission or FERC) staff's revised schedule for the completion of the environmental assessment (EA) for Tennessee Gas Pipeline Company, L.L.C.'s (Tennessee) Abandonment and Capacity Restoration Project. The first notice of schedule, issued on June 30, 2016, identified September 2, 2016 as the EA issuance date. However, Tennessee provided modifications to the proposed facilities that require additional time for staff to consider. Therefore, staff has revised the schedule for issuance of the EA.

Schedule for Environmental Review

Issuance of the EA: November 2, 2016.

90-day Federal Authorization Decision Deadline: January 31, 2017.

If a schedule change becomes necessary, an additional notice will be provided so that the relevant agencies are kept informed of the project's progress.

Additional Information

In order to receive notification of the issuance of the EA and to keep track of all formal issuances and submittals in specific dockets, the Commission offers a free service called eSubscription (http://www.ferc.gov/docs-filing/esubscription.asp).

Dated: September 2, 2016.
Kimberly D. Bose,
Secretary.

[FR Doc. 2016-21748 Filed 9-8-16; 8:45 am]

BILLING CODE 6717-01-P